DEPARTMENT OF COMMERCE

National Oceanic and Atmospheric Administration

50 CFR Parts 622

[Docket No. 250107-0004]

RIN 0648-BN31

Fisheries of the Caribbean, Gulf of Mexico, and South Atlantic; Snapper-Grouper Fishery of the South Atlantic; Amendment 59

AGENCY: National Marine Fisheries Service (NMFS), National Oceanic and Atmospheric Administration (NOAA), Commerce.

ACTION: Proposed rule; notice of availability of a fishery management plan amendment; request for comments.

SUMMARY: NMFS proposes regulations to implement Amendment 59 to the Fishery Management Plan (FMP) for the Snapper-Grouper Fishery of the South Atlantic (Snapper-Grouper FMP) (Amendment 59). If approved, Amendment 59 and this proposed rule would, for South Atlantic red snapper: revise the fishing mortality (F) at maximum sustainable yield (MSY) proxy for determining overfishing, acceptable biological catch (ABC), sector annual catch limits (ACLs), fishing year, sector fishing season start dates, recreational fishing season structure, commercial trip limits, and establish an annual experimental studies program. Additionally, Amendment 59 and this proposed rule would establish a snapper-grouper discard reduction season in South Atlantic Federal waters. This action is intended to end and prevent overfishing of red snapper while reducing dead discards and providing additional fishing opportunities.

DATES: Submit comments on this combined proposed rule and notice of availability of an FMP amendment on or before March 17, 2025.

ADDRESSES: A plain language summary of this proposed rule is available at https://www.regulations.gov/docket/NOAA-NMFS-2024-0142. You may submit comments on this document, identified by [NOAA-NMFS-2024-0142], by either of the following methods:

• Electronic Submission: Submit all electronic public comments via the Federal e-Rulemaking Portal. Visit https://www.regulations.gov and type [NOAA-NMFS-2024-0142], in the Search box. Click on the “Comment” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Amendment 59, which includes an environmental impact statement (EIS), regulatory impact review, and a regulatory flexibility analysis, may be obtained from the Southeast Regional Office website at https://www.fisheries.noaa.gov/action/secretarial-amendment-fishery-management-plan-snapper-grouper-fishery-south-atlantic-region.

The unique identification number for the EIS for Amendment 59 is: EISX-006-48-1SE-1726732992.

FOR FURTHER INFORMATION CONTACT: Nikhil Mehta, telephone: 727-824-5305, or email: nikhil.mehta@noaa.gov.

SUPPLEMENTARY INFORMATION: NMFS and the South Atlantic Fishery Management Council (Council) manage the South Atlantic snapper-grouper fishery, which includes red snapper, in the South Atlantic exclusive economic zone (EEZ) under the Snapper-Grouper FMP. The Snapper-Grouper FMP was prepared by the Council, approved by the Secretary of Commerce (Secretary), and is implemented by NMFS through regulations at 50 CFR part 622 under the authority of the Magnuson-Stevens Fishery Conservation and Management Act (Magnuson-Stevens Act).

On October 9, 2024, NMFS published a notice of intent to prepare an EIS for Amendment 59 in the Federal Register and requested public comment (89 FR 81892).

This document serves as both the proposed rule and the notice of availability for Amendment 59, which is a Secretarial Amendment to the Snapper-Grouper FMP.

Unless otherwise noted, all weights are described in whole weight.

Authority for Action

The Magnuson-Stevens Act authorizes the Secretary to prepare an amendment necessary for the conservation and management of a fishery managed under the Snapper-Grouper FMP if NMFS determines that the Council has failed to develop and submit such an amendment to the Secretary after a reasonable period of time (section 304(c)(1)(A); 16 U.S.C. 1854(c)(1)(A)). As discussed below, because the Council has failed to take action to develop and submit measures to the Secretary to end and prevent overfishing of South Atlantic red snapper, NMFS, acting for the Secretary, developed Amendment 59 and its implementing regulations in this proposed rule.

As described in Amendment 59, the proposed actions would revise the FMSY proxy (Fproxy) for determining overfishing of red snapper, revise the red snapper ABC, revise the red snapper total and sector ACLs, establish a snapper-grouper discard reduction season in the South Atlantic EEZ, revise the red snapper commercial trip limit, modify the red snapper commercial and recreational fishing season start dates, revise the red snapper recreational fishing season structure, establish a red snapper annual experimental studies program, and revise the red snapper fishing year.

NMFS is soliciting public comments on Amendment 59 and on this proposed rule. All relevant written comments received by the end of the comment period for this action (see DATES), whether specifically directed to the proposed Snapper-Grouper FMP amendment or the implementing regulations, will be considered by NMFS in deciding whether to adopt and implement Amendment 59.

South Atlantic Red Snapper Background

In 2021, a stock assessment for red snapper was completed (Southeast Data, Assessment, and Review 73, [SEDAR 73, 2021]) and indicated that red snapper remains overfished and undergoing overfishing, but the stock was making adequate progress towards rebuilding. In July 2021, NMFS sent a letter to the Council notifying it of the results of the stock assessment and the Magnuson-Stevens Act requirements to end overfishing. NMFS further explained at subsequent Council meetings that although the red snapper stock was rebuilding and the existing rebuilding plan did not need to be revised, the Council needed to take action to end overfishing of red snapper. Subsequent to the stock status notification of July 2021, the Council developed Regulatory Amendment 35 to the Snapper-Grouper FMP (Regulatory Amendment 35) which, if implemented, would have reduced the catch levels of red snapper and specified gear requirements for reducing discards, but would not have ended overfishing. After taking final action to approve Regulatory Amendment 35 at their March 2023 meeting, the Council rescinded its final action to submit Regulatory Amendment 35 to NMFS for implementation at its December 2023 meeting. Since that time, the Council has taken no further action under the Magnuson-Stevens Act to end overfishing of red snapper. As a result, on June 14, 2024, NMFS implemented temporary interim measures for red snapper to reduce overfishing by reducing the catch limits for the 2024 red snapper commercial and recreational fishing seasons, and these measures were effective through December 11, 2024 (89 FR 50350).

In the past 2 years, NMFS has been sued three times for the continued overfishing of South Atlantic red snapper. On August 22, 2024, a Federal District Court approved a settlement agreement between NMFS and the plaintiffs in one of these lawsuits. The settlement agreement requires NMFS to submit to the Federal Register by June 6, 2025, a final rule implementing a Secretarial Amendment to end red snapper overfishing. However, a Secretarial Amendment would not be required if the Council takes action to end overfishing and NMFS approves and submits a final rule to the Federal Register to implement the Council's action on or before June 6, 2025.

NMFS completed an update of the SEDAR 73 (2021) assessment in December 2024 using data through 2023 (SEDAR 73 Update Assessment [2024]). The updated assessment indicated that the stock is still experiencing overfishing relative to the Council's current fishing mortality threshold, but could continue to rebuild on schedule if fished at a higher fishing mortality rate given above-average recruitment of younger fish in recent years. The stock is still rebuilding, but it is no longer overfished because the red snapper spawning stock biomass is greater than the minimum stock size threshold (MSST). However, because the stock size has not reached the rebuilding target level specified in the rebuilding plan, red snapper will continued to be managed under the rebuilding plan. The rebuilding target level is the reproductive capacity of the red snapper population at 30 percent of the spawning potential ratio (SPR) of an unfished population [30%SPR]).

Most of the red snapper fishing mortality is attributed to dead discards in the recreational sector. The recreational sector consists of both private recreational anglers and charter vessels and headboats (for-hire). Recreational fishermen discard red snapper both during the directed red snapper recreational open fishing season and during the closed recreational season while fishers are targeting snapper-grouper species that co-occur with red snapper. As described in Amendment 59, approximately 98 percent of all red snapper discard mortalities during 2021-2023 were from the recreational sector (SEDAR 73 Update 2024). The current level of discards is resulting in less younger fish, which are more abundant, surviving to the older ages necessary to sustain the population in the long term, particularly if recruitment decreases back to more historical levels. Additionally, the high level of mortality from discards is reducing and limiting the amount of landed catch.

Management Measures Contained in the Proposed Rule

For red snapper, this proposed rule would revise the commercial and recreational ACLs, the fishing year, the commercial and recreational sector fishing season start dates, the recreational fishing season structure, and the commercial trip limits. Additionally, the proposed rule would establish a snapper-grouper discard reduction season in the South Atlantic EEZ.

Red Snapper Commercial and Recreational ACLs

The Council developed Amendment 43 to the Snapper-Grouper FMP (Amendment 43) in 2018 and specified the current total ACL of 42,510 fish based on landings observed during the limited red snapper season in 2014 (83 FR 35428, July 26, 2018). The total ACL is divided between the sectors, using the current sector allocation ratio for red snapper in the Snapper-Grouper FMP of 28.07 percent commercial and 71.93 percent recreational. This results in the commercial ACL of 124,815 pounds (lb) (56,615 kilograms (kg)) and the recreational ACL of 29,656 fish. The commercial sector ACL is set in pounds of fish because the commercial sector reports landings in weight, and weight is a more accurate representation of commercial landings. The ACL for the recreational sector is specified in numbers of fish because numbers of fish are a more reliable estimate for the recreational sector than specifying the ACL in weight of fish.

As discussed later in this proposed rule, Amendment 59 would increase the total ACL to 500,000 fish (139,000 fish as landings and 361,000 fish as dead discards). Using the current sector allocation ratio of 28.07 percent commercial and 71.93 percent recreational, the proposed rule would specify a commercial ACL of 346,000 lb (156,943 kg), and a recreational ACL of 85,000 fish. The proposed ACL increases are based on the proposed ABC that resulted from the SEDAR 73 Update Assessment (2024), and based on the new management measures in this proposed rule for the commercial and recreational sectors to reduce dead discards. The proposed ABC is eight percent below the overfishing limit (OFL) to account for scientific uncertainty. The total ACL is reduced by two percent from the ABC. Management measures such as the commercial and recreational fishing seasons, the commercial trip limit, and the discard reduction season are intended to constrain catches to at or below the sector ACLs.

Red Snapper Fishing Year

The current fishing year for South Atlantic red snapper is January 1 through December 31 (50 CFR 622.7). The fishing year aligned with the calendar year is consistent with many snapper-grouper species managed by NMFS and the Council. The fishing year applies to both the commercial and recreational sectors. This proposed rule would revise the fishing year to be May 1 through April 30, annually and would also apply to both sectors. This change is intended to improve consistency in when red snapper catches are accounted for given the timing of the implementation of the proposed new management measures, and it would align with the proposed commercial red snapper season opening and the opening of the fishing season for shallow-water grouper on May 1, which are under a spawning season closure from January through April, and are a group of snapper-grouper species commonly caught with red snapper.

Red Snapper Commercial Fishing Season

The current commercial season begins on the second Monday in July, unless otherwise specified. The commercial accountability measures (AMs) require the sector to close for the remainder of the fishing year if commercial landings reach or are projected to reach the commercial ACL.

For the 2025-2026 fishing year, the start of the commercial fishing season would remain the same and begin on the second Monday in July. Beginning with the 2026-2027 fishing year, this proposed rule would change the start of the commercial fishing season to begin annually on May 1. The commercial AM would not change as a result of this proposed rule.

As previously discussed, the change of the commercial fishing season to open on May 1 would align with the opening of the shallow-water grouper fishing season on May 1. Shallow-water grouper are under a spawning season closure from January through April, and are commonly caught with red snapper. NMFS expects the change in the commercial fishing season would help reduce the discards of red snapper by allowing fishermen to retain red snapper while fishing for co-occurring species. NMFS determined that given the timing of this rulemaking for Amendment 59, changing the commercial start date for the 2025-2026 fishing year is not practicable.

Red Snapper Recreational Fishing Season

The current recreational season, which consists of weekends only (Fridays, Saturdays, and Sundays), begins on the second Friday in July, unless otherwise specified. NMFS projects the length of the recreational fishing season and announces the recreational fishing season end date in the Federal Register. The Regional Administrator (RA) also has the authority to change the red snapper recreational season opening and closing dates based on certain adverse weather conditions. Currently, if the RA determines tropical storm or hurricane conditions exist, or are projected to exist, in the South Atlantic during a fishing season, the RA may modify the opening and closing dates of the fishing season by filing a notification to that effect with the Office of the Federal Register and announcing via NOAA Weather Radio and a Fishery Bulletin any change in the dates of the red snapper fishing season.

For the 2025-2026 fishing year, this proposed rule would change the start of the recreational fishing season to begin on the second Saturday in July, unless otherwise specified. This proposed rule would define a recreational season weekend as being Saturday and Sunday only, and not include Friday. Beginning in the 2026-2027 fishing year, the recreational season would begin on the second Saturday in June, unless otherwise specified, consist of weekends only, and define a recreational season weekend as being Saturday and Sunday only. During any announced recreational fishing season, the recreational bag limit would remain at one fish per person. Additionally, this proposed rule would revise the current authority of the RA to modify the fishing season dates, including off a specific South Atlantic state (see 50 CFR 622.2 for these state definitions), for adverse weather conditions. The proposed rule would provide the RA greater flexibility to modify the recreational fishing season dates in case of adverse weather that is classified by the National Weather Service (NWS) at least as severe as a Small Craft Advisory. For the South Atlantic, the NWS defines a Small Craft Advisory as sustained winds of 20 to 33 knots (10 to 17 meters/second), and/or forecast seas of 7 feet (2.1 meters) or greater that are expected for more than 2 hours (https://weather.gov/marine/cwd). Specifically, the RA may modify the opening and closing dates of the recreational fishing season, or reopen the season at a later date, if the RA determines that conditions that result in weather at least as severe as a Small Craft Advisory exist, or are projected to exist, during the announced recreational season in the South Atlantic. In such circumstances, the RA would file a notice to change the recreational season dates with the Office of the Federal Register and announce it via NOAA Weather Radio and a Fishery Bulletin. NMFS has determined that this would help mitigate derby-style (race-to-fish) conditions in such adverse weather and is also being implemented to be consistent with Magnuson-Stevens Act National Standard 10 to promote safety of life at sea to the extent practicable. The current weather flexibility authority of the RA for the commercial sector would not change as a result of this proposed rule since the commercial sector is not confined to only fishing on weekends.

The proposed changes to the recreational fishing season are expected to increase recreational access to red snapper and increase the number of fishing days available for recreational fishers by aligning the fishing days with the days when fishers are not usually at work, and starting the season earlier in the summer when adverse weather conditions from the hurricane season are less likely to occur in the South Atlantic. Additionally, by extending the recreational fishing season over more weekends, there may be a benefit to safety at sea by spreading out fishing effort over a longer period of time and thereby minimizing the impact of any specific period of adverse weather.

Red Snapper Commercial Trip Limit

The current commercial trip limit during the commercial red snapper season is 75 lb (34 kg), gutted weight. This proposed rule would increase the commercial trip limit to 150 lb (68 kg), gutted weight, during a commercial fishing season. The proposed increase in the trip limit, in combination with the proposed increase in the commercial ACL, is projected to double the number of available days the commercial sector would be able to fish for red snapper, although as described in Amendment 59, a commercial in-season closure is still expected. The increased trip limit, in conjunction with the proposed increase to the commercial ACL is expected to increase economic efficiency and reduce discards given the longer commercial fishing season and greater amounts of fish that can be retained. The proposed ACLs and existing commercial AMs are expected to prevent the proposed commercial ACL from being exceeded during the fishing year.

Snapper-Grouper Discard Reduction Season

Amendment 59 would establish a discard reduction season for the South Atlantic snapper-grouper recreational sector, which is expected to reduce dead discards of red snapper by at least 24 percent from current levels. Coast-wide, recreational dead discards represent the primary source of mortality for red snapper (98 percent of all discard mortality), and catch estimates off Florida alone accounted for 87 percent of the South Atlantic dead discards during 2021-2023. Selection of this area allows the target reduction in dead discards to be achieved, while minimizing the geographic size and temporal scope of the area in South Atlantic waters. In the area described below, from January 1 through the end of February and from December 1 through December 31, annually, (i.e. from December through February) no private recreational or for-hire fisherman would be allowed to fish for, harvest, or possess a species in the South Atlantic snapper-grouper fishery management unit (FMU) from the South Atlantic EEZ that were harvested with hook-and-line fishing gear. As defined at 50 CFR part 600.10, hook-and-line gear means one or more hooks attached to one or more lines (can include a troll). The snapper-grouper FMU, described in 50 CFR part 622, Table 2 to Appendix A, consists of 55 species and many of these species are known to co-occur with red snapper such as black sea bass, red grouper, gag, scamp, greater amberjack, vermilion snapper, and gray triggerfish. Generally, the discard reduction season's closed area is all South Atlantic EEZ waters bounded to the north by the Florida/Georgia state border and to the south by Cape Canaveral, Florida. The specific coordinates of this snapper-grouper discard reduction seasonal closed area would be codified in this proposed rule at 50 CFR 622.183(b)(12)(i), as shown below. Additionally, Action 4 in Chapter 2 of Amendment 59 contains a graphic representation of the discard reduction seasonal closed area as reference (see ADDRESSES).

NMFS notes that for the snapper-grouper discard reduction season, the prohibition on the possession of snapper-grouper species using hook-and-line fishing gear (including trolling gear) does not apply to a recreational vessel that is in transit and with fishing gear appropriately stowed. Transit means non-stop progression through the area. Appropriately stowed means that terminal gear (i.e., hook, leader, sinker, flasher, or bait) used with an automatic reel, bandit gear, handline, or rod and reel must be disconnected and stowed separately from such fishing gear. Additionally, a rod and reel must be removed from the rod holder and stowed securely on or below deck.

As described in Amendment 59, the selection of this specific area and time component for the discard reduction season allows the target reduction in dead discards to be achieved, while minimizing the geographic size and temporal scope of the area in the South Atlantic EEZ. The reduction in dead discards and the increase in the red snapper recreational ACL is projected to increase the recreational fishing season length from 1-2 days to 5-9 days.

The proposed discard reduction season would have a biological benefit to the red snapper stock and snapper-grouper species in general by reducing the overall catch of snapper-grouper species in this area. This in turn is expected to reduce discards for red snapper specifically and co-occurring snapper-grouper species generally, and to increase overall ecosystem health. The proposed discard reduction season would contribute to addressing overfishing of red snapper by reducing the number of red snapper discarded dead, consistent with both National Standards 1 (ending overfishing) and 9 (reducing bycatch and bycatch mortality to the extent practicable). Recreational fishermen using hook-and-line fishing gear would be expected to adjust their fishing behavior in response to this annual seasonal closure. Recreational charter vessels and headboats and individual fishermen would likely respond differently to these new proposed regulations. However, while the recreational sector may need to alter its fishing behavior based on the discard reduction season, NMFS expects that ultimately, there will be gains in the biomass of red snapper and other co-occurring snapper-grouper species as a result of the discard reduction season that could be passed on to fishermen through future benefits such as increased catch limits and fishing opportunities.

Management Measures in Amendment 59 Not Codified by This Proposed Rule

In addition to the measures codified within this proposed rule, for red snapper, Amendment 59 would revise the FMSY proxy for determining overfishing, OFL, ABC, total ACL, and establish an annual experimental studies program.

Fishing Mortality at Maximum Sustainable Yield Proxy for Red Snapper Overfishing

The current MSY for South Atlantic red snapper equals the yield produced by FMSY, and F30%SPR is used as the FMSY proxy. If the current F is greater than the FMSY or greater than the FMSY proxy of F30%SPR, overfishing is occurring. Amendment 59 would revise the overfishing definition as: overfishing occurs when current F is greater than FMSY or a reasonable proxy, based on the best scientific information available. If current F is greater than FMSY or the FMSY proxy, overfishing is occurring. Amendment 59 would define current F as F2021-2023. This proxy is expected to maintain stock recovery and adequate progress through 2028 with the rebuilding plan established in Amendment 17A to the Snapper-Grouper FMP based on recent high recruitment (75 FR 76874, December 9, 2010).

The SEDAR 73 Update Assessment (2024) indicated that the red snapper stock had continued to grow, was no longer overfished, but had not yet rebuilt. Amendment 59 would apply the F from the 2021 through 2023 fishing years (F2021-23) as the FMSY proxy based on the results of the SEDAR 73 Update Assessment, and the red snapper stock would no longer be classified as undergoing overfishing (FCURRENT/F2021-23 = 1.0). The use of F2021-2023 is a reasonable FMSY proxy for the South Atlantic red snapper stock until the next assessment is completed in 2028. Projection results from the 2024 SEDAR 73 Update Assessment indicate this level of fishing mortality combined with recent, above-average recruitment will keep the stock on track to rebuild consistent with the red snapper rebuilding plan.

Red Snapper OFL, ABC and Total ACL

The current OFL is 56,000 fish and the ABC is 53,000 fish based on SEDAR 41 (2017), which includes both landings and dead discards. As previously discussed, the Council developed Amendment 43 to the Snapper-Grouper FMP in 2018 and specified the current total ACL of 42,510 fish based on landings observed during the limited red snapper season in 2014 (83 FR 35428, July 26, 2018). Amendment 43 also specified the current commercial ACL of 124,815 lb (56,615 kg), and the recreational ACL of 29,656 fish based on a commercial allocation of 28.07 percent and a recreational allocation of 71.93 percent. Amendment 59 would specify an OFL of 551,000 fish (yield at F2021-2023), and an ABC equal to 92 percent of the OFL (F2021-2023)) of 509,000 fish (71,000 landed fish and 438,000 dead discards), based on the F2021-2023 high recent recruitment scenario from the SEDAR 73 Update Assessment (2024). The proposed ABC includes a buffer of eight percent from the OFL accounting for scientific uncertainty. NMFS expects the measures in Amendment 59 and the proposed rule to reduce dead discards by at least 24 percent resulting in a total ACL of 500,000 fish (139,000 fish as landings and 361,000 fish as dead discards).

Annual Experimental Studies Program

Although research on red snapper and other snapper-grouper species does currently occur throughout the South Atlantic, there is not a specific annual experimental studies program in place to reduce red snapper discards and increase fishing opportunities. Requests to conduct experimental studies such as an exempted fishing permit (EFP) issued pursuant to 50 CFR 600.745(b), are evaluated by NMFS on an ad hoc basis and issued as appropriate. For example, NMFS issued EFPs for red snapper experimental studies to the state of Florida in 2024, the studies are ongoing, and the EFPs are valid until July 31, 2025 (89 FR 23979, April 5, 2024; and 89 FR 23977, April 5, 2024). For state agencies, academics, researchers, and other applicants interested in red snapper specific projects, Amendment 59 would establish an annual process for requesting, evaluating, and approving proposals for innovative projects intended to reduce red snapper discards and increase fishing opportunities. Project proposals would be evaluated based on a fixed schedule to be developed by NMFS. Projects approved by NMFS would authorize up to a total or combined amount of red snapper of 9,000 fish, which represents the difference between the proposed ABC and ACL. NMFS notes that these research opportunities are not necessarily specific to the EFPs but may also apply to other types of research projects.

Proposed Rule for Amendment 59

This document is the proposed rule for Amendment 59 and serves as the notice of availability for Amendment 59. In accordance with the Magnuson-Stevens Act, NMFS has determined that this notice of availability and proposed rule for Amendment 59 are consistent with the Snapper-Grouper FMP, the Magnuson-Stevens Act, and other applicable law.

Consideration of Public Comments

NMFS has prepared Amendment 59 for review, approval, and implementation. Comments on Amendment 59 or on this proposed rule must be received by March 17, 2025. Comments received during the respective comment period, whether specifically directed to Amendment 59 or the proposed rule, will be considered by NMFS and the Secretary in the decision on whether to adopt Amendment 59 and implement the final rule. All relevant comments received by NMFS on the amendment or the proposed rule during the respective comment period will be addressed in the final rule.

Classification

Pursuant to the Magnuson-Stevens Act, the NMFS Assistant Administrator has determined that this action is consistent with the Snapper-Grouper FMP, the Magnuson-Stevens Act, and other applicable law, subject to further consideration after public comment.

This proposed rule has been determined to be not significant for purposes of Executive Order 12866. The Magnuson-Stevens Act provides the legal basis for this proposed rule. No duplicative, overlapping, or conflicting Federal rules have been identified. In addition, no new reporting and record-keeping requirements are introduced by this proposed rule. This proposed rule contains no information collection requirements under the Paperwork Reduction Act of 1995.

NMFS prepared an initial regulatory flexibility analysis (IRFA) for this proposed rule, as required by section 603 of the Regulatory Flexibility Act (RFA), 5 U.S.C. 603. The IRFA describes the economic impact this proposed rule, if adopted, would have on small entities. A description of this proposed rule, why it is being considered, and the purposes of this proposed rule are contained in the SUMMARY and SUPPLEMENTARY INFORMATION sections of the preamble. A copy of the full analysis is available from NMFS (see ADDRESSES). A summary of the IRFA follows. All monetary estimates in the following analysis are in 2023 dollars.

This proposed rule would: (1) increase the red snapper total ACL from 42,510 fish to 500,000 fish based on the results of an updated stock assessment and by reducing red snapper dead discards by at least 24 percent from the baseline, (2) establish new management measures for the recreational sector to reduce dead discards of red snapper by establishing a discard reduction season for the recreational sector in which from January 1 through the end of February and from December 1 through December 31, no private recreational or for-hire fishermen may fish for, harvest, or possess in or from the South Atlantic exclusive economic zone in an area between 28°00.0′ N and the Florida/Georgia border (30°42.0′ N) any species in the snapper-grouper FMU with hook-and-line fishing gear, (3) increase the commercial trip limit for red snapper from 75 lb (34 kg), gutted weight, to 150 lb (68 kg), gutted weight, (4) modify the commercial fishing season for red snapper from beginning on the second Monday in July each year to beginning on May 1, taking effect in 2026, (5) modify the recreational fishing season for red snapper from beginning on the second Friday in July, consisting of weekends only (Fridays, Saturdays, and Sundays) unless otherwise specified, to begin on the second Saturday in July beginning in 2025 with the season consisting of Saturdays and Sundays only, (6) modify the recreational fishing season for red snapper to begin on the second Saturday in June, beginning in 2026 with the season consisting of Saturdays and Sundays only, and (7) modify the fishing year for South Atlantic red snapper from January 1 through December 31 to May 1 through April 30.

Actions (1) and (7), above, would apply to all commercial fishing businesses, for-hire fishing businesses, and recreational fishers (anglers) that fish for red snapper in Federal waters of the South Atlantic. Actions (2), (5), and (6) would only apply to for-hire fishing businesses and recreational anglers that fish for any snapper-grouper species in the South Atlantic EEZ. Finally, actions (3) and (4) would only apply to commercial fishing businesses that fish for red snapper in Federal waters of the South Atlantic. None of the proposed changes would directly apply to federally-permitted dealers. Any change in the supply of red snapper available for purchase by dealers as a result of this proposed rule, and associated economic effects, would be an indirect effect of the proposed rule and would therefore fall outside the scope of the RFA.

A valid South Atlantic snapper-grouper unlimited permit (SG1) or 225-lb Trip-limited permit (SG2) is required in order to legally harvest red snapper commercially in the South Atlantic. At the end of 2020, 535 vessels possessed a valid commercial South Atlantic SG1 permit, and 104 vessels possessed a valid SG2 permit. From 2016 through 2020, an average of 660 commercial vessels possessed one of these permits each year. NMFS does not possess complete ownership data regarding businesses that harvest South Atlantic red snapper. Therefore, it is not currently feasible to accurately determine affiliations between commercial fishing vessels and the businesses that own them. As a result, for purposes of this analysis, it is assumed each commercial fishing vessel is independently owned by a single business, which is expected to result in an overestimate of the actual number of commercial fishing businesses regulated by this proposed regulatory action. Thus, this analysis assumes that 660 commercial fishing businesses would be regulated by this proposed rule.

This proposed rule would also regulate and directly affect recreational anglers and for-hire fishing businesses. The RFA does not consider recreational anglers to be entities, so they are outside the scope of this analysis (5 U.S.C. 603). Small entities include small businesses, small organizations, and small governmental jurisdictions (5 U.S.C. 601(6) and 601(3)-(5)). Recreational anglers are not businesses, organizations, or governmental jurisdictions.

A valid charter vessel/headboat South Atlantic snapper grouper vessel permit is required in order for for-hire vessels to legally harvest snapper-grouper species in the South Atlantic. NMFS does not possess complete ownership data regarding vessels that hold charter vessel/headboat South Atlantic snapper-grouper vessel permits, and thus potentially harvest snappers or groupers. Therefore, it is not currently feasible to accurately determine affiliations between these vessels and the businesses that own them. As a result, for purposes of this analysis, it is assumed each for-hire vessel is independently owned by a single business, which is expected to result in an overestimate of the actual number of for-hire fishing businesses regulated by this proposed rule. Further, NMFS also does not currently possess data on the number of for-hire fishing vessels that harvest or target South Atlantic red snapper or snapper and grouper species in general. However, from 2016 through 2020, the average number of for-hire fishing vessels with charter vessel/headboat South Atlantic snapper-grouper vessel permits was 2,059. Because these permits are open access and thus not limited, this analysis assumes that as many as 2,059 for-hire fishing businesses could be directly regulated by this proposed rule.

On December 29, 2015, NMFS issued a final rule establishing a small business size standard of $11 million in annual gross receipts (revenue) for all businesses primarily engaged in the commercial fishing industry (NAICS code 11411) for RFA compliance purposes only (80 FR 81194, December 29, 2015). In addition to this gross revenue standard, a business primarily involved in commercial fishing is classified as a small business if it is independently owned and operated, and is not dominant in its field of operations (including its affiliates). From 2019 through 2023, the maximum annual gross revenue earned by a single commercial snapper-grouper vessel was approximately $457,418, while the average annual gross revenue for a vessel commercially harvesting red snapper in the South Atlantic was $70,028. Based on this information, all commercial fishing businesses directly regulated by this proposed rule are determined to be small entities for the purpose of this analysis.

For other industries, the Small Business Administration has established size standards for all major industry sectors in the U.S., including for-hire businesses (NAICS code 487210). A business primarily involved in for-hire fishing is classified as a small business if it is independently owned and operated, is not dominant in its field of operation (including its affiliates), and has annual receipts (revenue) not in excess of $14 million for all its affiliated operations worldwide. The average annual gross revenue for a headboat in the South Atlantic is estimated at $355,255, based on data from 2017. The average annual charter vessel gross revenue is estimated at $146,438, based on data from 2009. Information on the maximum annual gross revenue earned by an individual headboat or charter vessel is not available; however, NMFS assumes that no such businesses earned in excess of $14 million. Based on this information, all for-hire fishing businesses regulated by this proposed rule are determined to be small businesses for the purpose of this analysis.

The average commercial fishing business that harvests South Atlantic red snapper generates $70,028 per year in gross revenue from commercial fishing. Approximately eight percent of this average annual gross revenue represents economic profits, or about $5,602 per vessel per year. The proposed rule would increase the commercial ACL for South Atlantic red snapper and would be expected to increase aggregate annual commercial landings of South Atlantic red snapper by an average of 221,185 lb (100,327.8 kg), worth an estimated $1,384,897, beginning in the year of implementation. Given that there are approximately 192 commercial fishing businesses harvesting South Atlantic red snapper each year, the average increase in annual gross revenue per business would be approximately $7,213. Economic profits, therefore, would be expected to increase by approximately 10 percent on average per affected commercial fishing business.

This proposed rule would also modify the commercial trip limit to 150 lb (68 kg), gutted weight, from 75 lb (34 kg), gutted weight. In general, a less restrictive commercial trip limit may increase economic efficiency on commercial fishing trips, which would lead to an increase in profitability for commercial red snapper vessels. However, these effects cannot be quantified with existing data and individual fishing businesses may experience varying effects based on their operating characteristics and profit maximization strategies.

This proposed rule would also modify the start of the commercial fishing season from beginning on the second Monday in July to beginning May 1 of each year starting in 2026. NMFS does not possess the data to directly determine whether any precise differences in profitability would occur with a commercial fishing season beginning on May 1 of each year. However, some economic benefits are possible. Modifying the start of the commercial fishing season to May 1 would align with opening of the commercial shallow-water grouper season, which could lead to an increase in profitability on commercial red snapper trips that target shallow-water grouper jointly in the season. Increased joint landings of shallow-water grouper species on red snapper trips could increase economic trip efficiency. The proposed May 1 start to the commercial fishing season may also aid in reducing dead discards of red snapper in some areas during the shallow-water grouper season. This could result in faster rebuilding of the red snapper stock, providing future benefits such as increased catch limits.

For the average South Atlantic charter vessel, annual gross revenue is estimated to be approximately $146,438. For the average South Atlantic headboat, annual gross revenue is estimated to be approximately $355,255. This proposed rule would increase the total ACL for South Atlantic red snapper, as well as the recreational ACL. If current relative sector usage persists, the increase of 55,344 fish to the red snapper recreational ACL would be expected to increase the number of targeted for-hire angler trips. In the long run, factors of production, such as labor and capital, can be used elsewhere in the economy, and so only short-term changes to economic profits are expected. In the South Atlantic, headboat trips take a diverse set of anglers on a single vessel, generally advertising a diverse range of species to be caught. Therefore, economic profits for headboats are estimated separately from charter vessels. The expected increase in directed red snapper recreational angler trips is expected to increase net revenue for charter vessels and headboats by up to $391,276 and $459,060, respectively, per year on average. The estimates will depend on how many additional for-hire trips are booked as a result of the increased red snapper recreational ACL and recreational season length. Given that there are approximately 2,059 charter fishing businesses and 61 headboat businesses that are eligible to recreationally harvest South Atlantic red snapper each year, the average increase in annual net revenue per charter and headboat business is approximately $190 and $7,525, respectively. Because not all permitted charter vessels may be active and many permitted charter vessels fish in areas where red snapper are less abundant (e.g., southeast Florida), the change in net revenue per active charter vessel is likely underestimated and may be considerably greater than presented here.

This proposed rule would also establish a discard reduction season for all snapper-grouper, which would be expected to decrease directed snapper-grouper recreational angler trips during the period from January 1 through the end of February and from December 1 through December 31 in the South Atlantic EEZ in an area between 28°00.0′ N and the Florida/Georgia border (30°42.0′ N). These estimated decreases in directed snapper-grouper charter vessel and headboat angler trips would result in a decrease in annual net revenue of up to $408,043 and $410,859, respectively. The average decrease in annual net revenue per business from forgone recreational for-hire fishing trips would be approximately $200 for charter vessels and $6,689 for headboats. Again, the change in average net revenue for active charter vessels may be greater than what is shown here for all permitted vessels. When the loss in net revenue from forgone snapper-grouper trips associated with the proposed temporal closure is combined with the increased net revenue from the additional red snapper trips during the open season, the overall change in annual net revenue for charter and headboat businesses would equate to −$19,583 and $51,017 (−$10 or $836 per vessel), respectively.

This proposed rule would also modify the recreational red snapper fishing season from consisting of weekends only (Fridays, Saturdays, and Sundays) that begins on the second Friday in July (unless otherwise specified), to either begin on the second Saturday in July consisting of Saturdays and Sundays beginning in 2025 or beginning on the second Saturday in June consisting of Saturdays and Sundays beginning in 2026. Estimating the differences in for-hire vessels' profitability from differences in when the recreational red snapper season begins and specific days of the week is not possible. Information, such as whether net revenue per trip varies on a seasonal basis, is not available for use in estimating the differences in profitability with respect to varying recreational season start dates. Information on recreational red snapper directed effort (trips that targeted or caught red snapper) can aid in determining if the profitability may differ between start dates. However, because the recreational red snapper season has been only a few days long or less in recent years and has occurred entirely in July, there is a lot of uncertainty in how demand for for-hire trips would change if previously closed months were open to fishing. Directed red snapper effort was higher in July and August than in June from 2019 through 2023, as expected based on the historical red snapper seasons during that period, although May and June were higher than other periods during the year. Therefore, a June start date may provide similar economic returns to for-hire fishing businesses as a July start date.

The following discussion describes the significant alternatives to the proposed rule that were not selected by NMFS.

Three alternatives, including the status quo, were considered for the proposed action to increase and set the total South Atlantic red snapper ACL equal to 500,000 fish and establish a required dead discard reduction amount of at least 24 percent from the baseline, with the commercial and recreational South Atlantic red snapper sector ACLs set equal 346,000 lb (156,943 kg) and 85,000 fish respectively, based on current sector allocations.

The status quo alternative would have retained the total ACL equal to 42,510 fish, with a commercial ACL equal to 124,815 lb (56,615 kg), and a recreational ACL of 29,656 fish, and with the total ACL based on landings only. The status quo total ACL of 42,510 fish was specified in the final rule for Amendment 43 to the Snapper-Grouper FMP and is based on the landings observed during the limited red snapper season in 2014. Under the status quo ACL, no changes in landings, effort, or direct economic effects would have been expected on any small entities. The status quo ACL is based on outdated data that no longer represents the best scientific information available, and thus was not selected as preferred.

The second alternative would have reduced dead discards 16 percent from the baseline and used this discard reduction achievement to increase the total ACL to 505,000 fish. The commercial and recreational South Atlantic red snapper sector ACLs would equal 300,000 lb (136,078 kg) and 64,000 fish respectively. The second alternative would have resulted in $319,700 less total ex-vessel revenue for the commercial sector and $210,000 less total net revenue for the for-hire component of the recreational sector compared to the proposed ACLs. This alternative was not selected because, although it requires a smaller discard reduction than the proposed ACLs, it results in smaller direct and indirect social and economic benefits from the harvest of additional red snapper.

The third alternative would have reduced dead discards 32 percent from the baseline and used this discard reduction achievement to increase the total ACL to 496,000 fish. The commercial and recreational South Atlantic red snapper sector ACLs would equal 390,000 lb (176,901 kg) and 105,000 fish respectively. These sector ACLs, are higher than those in the proposed rule, and would have resulted in $305,800 more total ex-vessel revenue for the commercial sector and $200,079 more total net revenue for the for-hire component of the recreational sector compared to the proposed rule. This alternative was not selected because it would require a larger reduction in dead discards than the proposed rule. A larger discard reduction percentage would necessitate larger, more restrictive area and time closures to reduce dead discards.

Six alternatives, including the status quo, were considered for the proposed action to establish a discard reduction season for the recreational sector such that during December 1 through the end of February each year, no private recreational or for-hire fishermen may fish for, harvest, or possess in or from the South Atlantic EEZ in an area between 28°00.0′ N and the Florida/Georgia border (30°42.0′ N) any species in the snapper-grouper FMU with hook-and-line fishing gear. The status quo alternative would not have established new management measures for the recreational sector to achieve dead discard targets for red snapper. Therefore, no changes in directed effort or direct economic effects would have been expected on any small entities. This alternative was not selected because a discard reduction of at least 24 percent from the baseline is needed in order to achieve the ACL proposed in this rule.

The second alternative would have established two discard reduction areas for the recreational sector such that in these areas, no private recreational or for-hire fisherman may fish for, harvest, or possess, a species in the South Atlantic snapper-grouper FMU from the South Atlantic EEZ that were harvested with hook-and-line fishing gear. The first area was to be in the South Atlantic EEZ off Jacksonville, Florida, between 30°18.0′ N and 30°42.0′ N and between the approximate depths of 80 to 150 feet (ft) (24.3 to 45.7 meters (m)). The second area was to be in the South Atlantic EEZ off Cape Canaveral, Florida, between 28°18.0′ N and 28°42.0′ N latitudes and between the approximate depths of 80 to 150 ft (24.3 to 45.7 m). The difference in annual net revenue for for-hire vessels resulting from the area closures of the second alternative compared to the proposed rule is an additional loss of $1.43 million. This alternative was not selected because this alternative would result in less net economic benefits through shorter red snapper seasons and a lower overall red snapper ACL than the proposed rule.

The third alternative would have established a discard reduction season for the recreational sector. During January 1 through February 14 each year, no private recreational or for-hire fishermen would have been allowed to fish for, harvest, or possess in or from the South Atlantic EEZ in an area between 28°00.0′ N and the Florida/Georgia border (30°42.0′ N) any species in the snapper-grouper FMU with hook-and-line fishing gear. The difference in annual net revenue for for-hire vessels resulting from the area closure of the third alternative compared to the proposed rule would represent a gain of $442,677. This alternative was not selected because this alternative would provide fewer opportunities to harvest red snapper through shorter recreational fishing seasons and a lower overall red snapper recreational ACL than the proposed rule. This alternative was also not selected because it would provide less indirect benefits to co-occurring snapper-grouper species, many of which are overfished, undergoing overfishing, or showing declining trends in abundance.

The fourth alternative would have established three discard reduction areas for the recreational sector such that in these areas, no private recreational or for-hire fisherman may fish for, harvest, or possess, a species in the South Atlantic snapper-grouper FMU from the South Atlantic EEZ that were harvested with hook-and-line fishing gear. The first area was to be in the South Atlantic EEZ off Jacksonville, Florida between 30°18.0′ N and 30°42.0′ N and between the approximate depths of 80 to 150 ft (24.3 to 45.7 m). The second area was to be in the exclusive economic zone off St. Augustine, Florida between 29°30.0′ N and 29°54.0′ N and between the approximate depths of 80 to 150 ft (24.3 to 45.7 m). The third area was to be in the exclusive economic zone off Cape Canaveral, Florida between 28°18.0′ and 28°42.0′ N and between the approximate depths of 80 to 150 ft (24.3 to 45.7 m). The difference in annual net revenue for for-hire vessels resulting from the area closures of the fourth alternative compared to the proposed rule is an additional loss of $2.07 million. This alternative was not selected because this alternative would result in less net economic benefits than the temporal closure in the proposed rule.

The fifth alternative would have established four discard reduction areas for the recreational sector such that in these areas, no private recreational or for-hire fisherman may fish for, harvest, or possess, a species in the South Atlantic snapper-grouper FMU from the South Atlantic EEZ that were harvested with hook-and-line fishing gear. The first area was to be in the South Atlantic EEZ off Jacksonville, Florida between 30°24.0′ N and 30°42.0′ N and between the approximate depths of 70 to 110 ft (21.3 to 33.6 m). The second area was to be in the South Atlantic EEZ off St. Augustine, Florida between 29°42.0′ N and 29°54.0′ N and between the approximate depths of 70 to 110 ft (21.3 to 33.6 m). The third area was to be in the South Atlantic EEZ off Daytona Beach, Florida between 29°06.0′ N and 29°18.0′ N and between the approximate depths of 70 to 110 ft (21.3 to 33.6 m). The fourth area was to be in the South Atlantic EEZ off Cape Canaveral, Florida between 28°24.0′ N and 28°42.0′ N and between the approximate depths of 70 to 110 ft (21.3 to 33.6 m). The difference in annual net revenue for for-hire vessels resulting from the area closures of the fifth alternative compared to the proposed rule is an additional loss of $2.77 million. This alternative was not selected because this alternative would result in less net economic benefits than the temporal closure in the proposed rule.

The sixth alternative would have established both a discard reduction season for the entire South Atlantic EEZ and a separate year-round discard reduction area for the recreational sector. During January 1 through the end of February each year, no private recreational or for-hire fishermen would have been allowed to fish for, harvest, or possess a species in the South Atlantic snapper-grouper FMU from the South Atlantic EEZ. Additionally, in the year-round closed area, no private recreational or for-hire fisherman would have been able to fish for, harvest, or possess a species in the South Atlantic snapper-grouper FMU from the South Atlantic EEZ off Jacksonville, Florida between 30°18.0′ N and 30°42.0′ N and between the approximate depths of 80 to 150 ft (24.3 to 45.7 m) that were harvested with hook-and-line fishing gear. The difference in annual net revenue for for-hire vessels resulting from the area closures of the second alternative compared to the proposed rule is an additional loss of $548,728. This alternative was not selected because this alternative would result in less net economic benefits than the temporal closure in the proposed rule.

Three alternatives, including the status quo, were considered for the proposed action to increase the commercial trip limit for South Atlantic red snapper to 150 lb (68 kg), gutted weight. The status quo alternative would have retained the current commercial trip limit for South Atlantic red snapper of 75 lb (34 kg), gutted weight. This alternative was not selected because with the increase to the commercial ACL resulting from this proposed rule, it would reduce trip economic efficiency. This alternative was also not selected because the higher proposed trip limit would have been expected to reduce dead discards of red snapper during the commercial red snapper open season, especially for trips that are longer in duration and trips that target co-occurring species with red snapper as well. The second alternative would have modified the commercial trip limit to be 100 lb (45.4 kg), gutted weight. This alternative was not selected for similar reasons as to why the status quo alternative was not selected. The third alternative would have modified the commercial trip limit to be 200 lb (90.7 kg), gutted weight. This alternative was not selected because it would have resulted in a shorter commercial season relative to the proposed rule. A shorter commercial season could lead to increased out-of-season regulatory discards, although overall discards during the season would have been reduced.

Two alternatives, including the status quo, were considered for the proposed action to modify the start of the commercial fishing season to May 1 beginning in 2026. The status quo alternative would have retained the commercial fishing season to begin each year on the second Monday in July. This alternative was not selected because it would not align with the May 1 opening of shallow-water groupers, which are co-occurring species landed jointly with red snapper. Not aligning the season to start concurrently with the start of shallow-water grouper season reduces economic efficiency for red snapper trips, and increases the likelihood of red snapper discards as red snapper would not be available for commercial retention. This alternative was also not selected because in comparison to the proposed rule, this alternative does not provide the opportunity for as many commercial trips to occur in typically favorable weather conditions prior to the peak of hurricane season and fall/winter cold fronts.

The second alternative would have modified the start of the commercial fishing season to June 1 beginning in 2026. This alternative was also not selected for similar reasons as to why the status quo alternative was not selected.

Two alternatives, including the status quo, were considered for the proposed action to modify the recreational fishing season to begin on the second Saturday in July, consisting of Saturdays and Sundays beginning in 2025 or to begin on the second Saturday in June, consisting of Saturdays and Sundays beginning in 2026. The status quo alternative would have retained the recreational season consisting of weekends only (Fridays, Saturdays, and Sundays) beginning on the second Friday in July, unless otherwise specified. This alternative was not selected because it would limit the recreational fishing season to fewer weekends of fishing compared to the proposed rule. Further, the status quo included Friday as a fishing day in the recreational season. This would limit opportunities of recreational anglers who work typical weekday work schedules, increasing overall opportunity costs of recreational red snapper anglers. The second alternative would have modified the recreational fishing season to begin on the second Saturday in June 2026 consisting of weekends only (Fridays, Saturdays, and Sundays). This alternative was also not selected for similar reasons as to why the status quo alternative was not selected.

List of Subjects in 50 CFR Part 622

Commercial, Fisheries, Fishing, Recreational, Red snapper, Snapper-grouper, South Atlantic.

Dated: January 7, 2025.
Samuel D. Rauch III,
Deputy Assistant Administrator for Regulatory Programs, National Marine Fisheries Service.

For the reasons set out in the preamble, NMFS proposes to amend 50 CFR part 622 as follows:

PART 622—FISHERIES OF THE CARIBBEAN, GULF OF MEXICO, AND SOUTH ATLANTIC

1. The authority citation for part 622 continues to read as follows:

Authority: 16 U.S.C. 1801 et seq.

2. In § 622.7, add paragraph (i) to read as follows:

§ 622.7 Fishing years.

* * * * *

(i) South Atlantic red snapper—May 1 through April 30.

3. In § 622.183, revise paragraph (b)(5) and add paragraph (b)(12) to read as follows:

§ 622.183 Area and seasonal closures.

* * * * *

(b) * * *

(5) Closures of the commercial and recreational sectors for red snapper—(i) The commercial and recreational sectors for red snapper are closed (i.e., red snapper may not be harvested or possessed, or sold or purchased) in or from the South Atlantic EEZ, except as specified in § 622.193(y). Each year, NMFS will announce the season opening dates in the Federal Register. For the 2025-2026 fishing year, the commercial season will begin on the second Monday in July, unless otherwise specified. Beginning in the 2026-2027 fishing year, the commercial season will begin annually on May 1, unless otherwise specified. For the 2025-2026 fishing year, the recreational season, which consists of weekends only (Saturdays and Sundays) begins on the second Saturday in July, unless otherwise specified. Beginning in the 2026-2027 fishing year, the recreational season, which consists of weekends only (Saturdays and Sundays) begins on the second Saturday in June, unless otherwise specified. NMFS will project the length of the recreational fishing season and announce the recreational fishing season end date in the Federal Register. See § 622.193(y), for establishing the end date of the commercial fishing season.

(ii) For the commercial sector, if the RA determines tropical storm or hurricane conditions exist, or are projected to exist, in the South Atlantic during a commercial fishing season, the RA may modify the opening and closing dates of the fishing season by filing a notification to that effect with the Office of the Federal Register and announcing via NOAA Weather Radio and a Fishery Bulletin any change in the dates of the red snapper commercial fishing season. For the recreational sector, if the RA determines that weather conditions classified by the National Weather Service at least as severe as a Small Craft Advisory exist, or are projected to exist, in the South Atlantic EEZ, the RA may modify the opening and closing dates of the recreational fishing season, including off a specific South Atlantic state (see 50 CFR 622.2 for these state definitions), by filing a notification to that effect with the Office of the Federal Register and announcing via NOAA Weather Radio and a Fishery Bulletin any change in the dates of the red snapper recreational fishing season.

* * * * *

(12) Discard reduction season for the South Atlantic snapper-grouper recreational sector. The discard reduction season described in paragraph (b)(12)(i) of this section, is an area closed to the recreational sector for the harvest of South Atlantic snapper-grouper species by hook-and-line fishing gear (including trolling gear) from January 1 through the end of February and from December 1 through December 31, annually. The recreational bag limit using hook-and-line fishing gear to harvest South Atlantic snapper-grouper within the discard reduction season closed area, as described in paragraph (b)(12)(i) of this section, is zero. During the applicable seasonal closure, no person may harvest or possess any snapper-grouper species in or from the discard reduction season closed area within the South Atlantic EEZ that were recreationally harvested by hook-and-line fishing gear (including trolling gear), except for a recreational vessel that is in transit and with fishing gear appropriately stowed. For the purposes of paragraph (b)(12) of this section, transit means non-stop progression through the area. For the purposes of paragraph (b)(12) of this section, appropriately stowed means that terminal gear (i.e., hook, leader, sinker, flasher, or bait) used with an automatic reel, bandit gear, handline, or rod and reel must be disconnected and stowed separately from such fishing gear. Additionally, a rod and reel must be removed from the rod holder and stowed securely on or below deck.

(i) From January 1 through the end of February and from December 1 through December 31, annually, no person may recreationally harvest or possess South Atlantic snapper-grouper using hook-and-line fishing gear in or from the discard reduction season closed area within the South Atlantic EEZ described by the rhumb lines connecting, in order, the following points:

Table 12 to Paragraph (b)(12)(i)
Point | North lat. | West long.
1 | 30°42.0′ | State/EEZ boundary.
2 | 30°42.0′ | offshore U.S. EEZ boundary.
3 | 28°00.0′ | offshore U.S. EEZ boundary.
4 | 28°00.0′ | State/EEZ boundary.
1 | 30°42.0′ | State/EEZ boundary.

(ii) [Reserved].

4. In § 622.191, revise paragraph (a)(9) to read as follows:

§ 622.191 Commercial trip limits.

* * * * *

(a) * * *

(9) Red snapper. Until the commercial ACL specified in § 622.193(y)(1) is reached, 150 lb (68 kg), gutted weight.

* * * * *

5. In § 622.193, revise paragraph (y) to read as follows:

§ 622.193 Annual catch limits (ACLs) and accountability measures (AMs).

* * * * *

(y) Red snapper—(1) Commercial sector. The commercial ACL for red snapper is 346,000 lb (156,943 kg), round weight. See § 622.183(b)(5) for details on the commercial fishing season. NMFS will monitor commercial landings during the season, and if commercial landings, as estimated by the SRD, reach or are projected to reach the commercial ACL, the AA will file a notification with the Office of the Federal Register to close the commercial sector for red snapper for the remainder of the year. On and after the effective date of the closure notification, all sale or purchase of red snapper is prohibited and harvest or possession of red snapper is limited to the recreational bag and possession limits and only during such time as harvest by the recreational sector is allowed as described in § 622.183(b)(5). This bag and possession limit and the prohibition on sale/purchase apply in the South Atlantic on board a vessel for which a valid Federal commercial or charter vessel/headboat permit for South Atlantic snapper-grouper has been issued, without regard to where such species were harvested or possessed, i.e., in state or Federal waters.

(2) Recreational sector. The recreational ACL for red snapper is 85,000 fish. The AA will file a notification with the Office of the Federal Register to announce the length of the recreational fishing season for the current fishing year. The length of the recreational fishing season for red snapper serves as the in-season accountability measure. See § 622.183(b)(5) for details on the recreational fishing season. On and after the effective date of the recreational closure notification, the bag and possession limits for red snapper are zero.

* * * * *

[FR Doc. 2025-00552 Filed 1-10-25; 4:15 pm]

BILLING CODE 3510-22-P